NATIONAL TRANSPORTATION SAFETY BOARD

Public Hearing

The National Transportation Safety Board will convene a public hearing beginning at 9 a.m., (Eastern Daylight Time) on Wednesday, August 22-23, 2001, at the NTSB Board Room and Conference Center, 429 L'Enfant Plaza, S.W., Washington, D.C. 20024, concerning Emery Worldwide Airlines, Inc., flight 17, McDonnell Douglas DC-8-71F, accident in Rancho Cordova, California, on February 16, 2000. For more information, contact Frank Hilldrup, NTSB Office of Aviation Safety at (202) 314-6100.

Individuals requesting specific accommodations should contact Ms. Carolyn Dargan on 202-314-6305 by Friday August 17, 2001.

Dated: August 8, 2001.
Vicky L. D'Onofrio,
Federal Register Liaison Officer.

[FR Doc. 01-20228 Filed 8-10-01; 8:45 am]

BILLING CODE 7533-01-M